DEPARTMENT OF ENERGY

Federal Energy Regulatory Commission

[Docket Nos. CP04-370-000 and RP96-383-058]

Dominion Transmission, Inc.; Notice of Motion To Withdraw Application for Approval of Negotiated Rate Agreement and To Terminate Proceeding

January 19, 2005.

On December 22, 2004, Dominion Transmission, Inc. (Dominion) tendered for filing a motion to withdraw its application for approval of a negotiated rate agreement between Dominion and PSEG Energy Resources & Trade, LLC (PSEG), and to terminate the proceeding in the above referenced dockets.

Rule 216 of the Commission's Rules of Practice and Procedure provides that the withdrawal of any pleading becomes effective 15 days after notice of withdrawal, unless it is opposed and the Commission finds good cause to disallow the withdrawal. No comments in opposition to Dominion's motion were filed.

Pursuant to Rule 216, Dominion's motion to withdraw its application and to terminate the subject proceeding will take effect by operation of law.

Magalie R. Salas,
Secretary.

[FR Doc. E5-343 Filed 1-28-05; 8:45 am]

BILLING CODE 6717-01-P